ENVIRONMENTAL PROTECTION AGENCY

[FRL-13101-01-OMS]

Senior Executive Service Performance Review Board; Membership

AGENCY: Environmental Protection Agency (EPA).

ACTION: Notice.

SUMMARY: Notice is hereby given of the membership of the U.S. Environmental Protection Agency (EPA) Performance Review Board for 2025.

FOR FURTHER INFORMATION CONTACT: Kyle Barja, Director, Executive Resources Staff Office, Office of the Chief Human Capital Officer, Office of Finance and Administration, U.S. Environmental Protection Agency, 109 T.W. Alexander Drive, Research Triangle Park, North Carolina 27703, telephone number: (919) 541-2477, email address: barja.kyle@epa.gov.

SUPPLEMENTARY INFORMATION: Section 4314(c)(1) through (5) of title 5, U.S.C., requires each agency to establish in accordance with regulations prescribed by the Office of Personnel Management, one or more SES performance review boards. This board shall review and evaluate the initial appraisal of a senior executive's performance by the supervisor, along with any recommendations to the appointment authority relative to the performance of the senior executive. Members of the 2025 EPA Performance Review Board are:

Kyle Barja, (Ex-Officio) Director, Executive Resources Staff Office, Office of the Chief Human Capital Officer, Office of Finance and Administration.

Wesley Carpenter, (Ex-Officio) Deputy Chief of Staff for Management, Office of the Administrator.

Robert Coomber, Senior Advisor for Resources and Information, Office of Finance and Administration.

Michael Harris, Director, Superfund and Emergency Management Division, Region 5.

Mara J. Kamen, (Ex-Officio) Deputy Chief Human Capital Officer and Deputy Director, Office of the Chief Human Capital Officer, Office of Finance and Administration.

Javier Laureano, Director, Water Division, Region 2.

Wynne Miller, Deputy Director, Office of Wastewater Management, Office of Water.

Emma Pokon, Regional Administrator, Region 10.

Craig Pritzlaff, Principal Deputy Assistant Administrator, Office of Enforcement and Compliance Assurance.

Angel Robinson, Director, Office of Budget and Performance, Office of Finance and Administration.

Erika Sasser, Director, Impacts and Ambient Standards Division.

Cheryl Seager, Director, Enforcement and Compliance Assurance Division, Region 6.

Gregg Treml, (Ex-Officio) Deputy Chief Financial Officer and Deputy Chief Administrative Officer, Office of Finance and Administration.

Krysti Wells, (Ex-Officio) Chief Human Capital Officer and Director, Office of the Chief Human Capital Officer, Office of Finance and Administration.

Mara J. Kamen,
EPA Deputy Chief Human Capital Officer, Office of the Chief Human Capital Officer, Office of Finance and Administration.

[FR Doc. 2025-22520 Filed 12-10-25; 8:45 am]

BILLING CODE 6560-50-P